DEPARTMENT OF COMMERCE

National Oceanic and Atmospheric Administration

[RTID 0648-XC535]

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be November 29 and 30, 2022, from 8:30 a.m. to 5 p.m., and December 1, from 8:30 a.m. to 4 p.m. Eastern Time.

ADDRESSES: The meeting will be held at the DoubleTree Silver Spring DC North, 8777 Georgia Avenue, Silver Spring, MD 20910; 301-589-0800. Meeting will also be by webinar and teleconference.

FOR FURTHER INFORMATION CONTACT: Heidi Lovett, MAFAC Assistant Director; 301-427-8034; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change.

The meeting is convened to hear presentations and discuss policies and guidance on the following topics: the new NOAA aquaculture strategic plan, program updates, and seafood communications efforts; fisheries science and the Climate, Ecosystems, and Fisheries Initiative; budget outlook; an overview of habitat restoration funding opportunities; and updates on America the Beautiful and the draft NOAA Fisheries Equity and Environmental Justice Strategy. MAFAC will deliberate on draft reports from subcommittees working on fisheries and seafood industry workforce development and recommendations to update the NOAA Fisheries National Saltwater Recreational Fisheries Policy. MAFAC will discuss various administrative and organizational matters, and meetings of subcommittees and working groups will be convened.

Time and Date

The meeting will be November 29 and 30, 2022, from 8:30 a.m. to 5 p.m., and December 1, from 8:30 a.m. to 4 p.m. Eastern Time, and will be accessible by webinar and teleconference. Access information for the public will be posted at https://www.fisheries.noaa.gov/national/partners/marine-fisheries-advisory-committee-meeting-materials-and-summaries by November 18, 2022.

Dated: November 8, 2022.
Jennifer Lukens,
Director for the Office of Policy, National Marine Fisheries Service.

[FR Doc. 2022-24699 Filed 11-10-22; 8:45 am]

BILLING CODE 3510-22-P